SMALL BUSINESS ADMINISTRATION

[Docket Number SBA-2014-0014]

Franchise Agreement Reviews, Affiliation and Eligibility for Financial Assistance

AGENCY: Small Business Administration.

ACTION: Notice; extension of comment period.

SUMMARY: On December 8, 2014, the U.S. Small Business Administration (SBA) published a notice in the Federal Register to solicit public comments on, among other things, the factors relevant to determining affiliation between entities involved in a franchise or similar business relationship and also on the current processes for making such determinations. This notice announces the extension of the current comment period for an additional 60 days until April 7, 2015.

DATES: The comment period for the notice on franchise agreement reviews, affiliation and eligibility for financial assistance is extended until April 7, 2015.

ADDRESSES: You may submit comments, identified by Docket Number: SBA-2014-0014, by any of the following methods: (1) Federal Rulemaking Portal: http://www.regulations.gov. Follow the instructions for submitting comments; or (2) Mail/Hand Delivery/Courier: U.S. Small Business Administration, Attn: Mary Frias, 409 Third Street SW., 8th Floor, Washington, DC 20416. SBA will post all comments to this notice on www.regulations.gov. If you wish to submit confidential business information (CBI) as defined in the User Notice at www.regulations.gov, you must submit such information to the U.S. Small Business Administration, Attn: Mary Frias, 409 Third Street SW., 8th Floor, Washington, DC 20416, or send an email to mary.frias@sba.gov. Highlight the information that you consider to be CBI and explain why you believe SBA should hold this information as confidential. SBA will review your information and determine whether it will make the information public.

FOR FURTHER INFORMATION CONTACT: Meghan Milloy, U.S. Small Business Administration, 409 3rd Street SW., 8th Floor, Washington, DC 20416, telephone number (202) 619-1654 or meghan.milloy@sba.gov.

SUPPLEMENTARY INFORMATION: On December 8, 2014, SBA published a notice and request for comments at 79 FR 72748. SBA is re-examining the factors the agency considers relevant to the determination of “affiliation” between entities involved in a franchise or other similar business relationship (such as license, dealer, and jobber relationships), the current processes for making such determinations, and issues related to the use of SBA's Franchise Findings List and the use of external resources (such as the Franchise Registry). The notice, which is identified by Docket Number SBA-2014-0014, is also available at http://www.regulations.gov/#!docketDetail;D=SBA-2014-0014.

SBA received a formal request from several trade associations that represent participants in SBA's business loan programs to extend the comment period on this notice for an additional 60 days. After considering the request, SBA decided to extend the comment period an additional 60 days until April 7, 2015. This extension will give commenters additional time to consider the notice and submit comments.

Linda S. Rusche,
Director, Office of Financial Assistance.

[FR Doc. 2015-00740 Filed 1-16-15; 8:45 am]

BILLING CODE 8025-01-P